DEPARTMENT OF DEFENSE

Defense Logistics Agency

Membership of the Defense Logistics Agency (DLA) Senior Executive Service (SES) Performance Review Board (PRB)

AGENCY: Defense Logistics Agency, Department of Defense.

ACTION: Notice of membership—2000 DLA PRB (Amended).

SUMMARY: This notice amends the appointment of members to the Defense Logistics Agency Senior Executive Service (SES) Performance Review Board (PRB). The publication of PRB composition is required by 5 U.S.C. 4314(c)(4). The PRB provides fair and impartial review of Senior Executive Service performance appraisals and makes recommendations to the Director, Defense Logistics Agency, with respect to pay level adjustments and performance awards, and other actions related to management of the SES cadre.

EFFECTIVE DATE: July 1, 2000.

ADDRESSES: Defense Logistics Agency, 8725 John J. Kingman Road, STE 2533, Fort Belvoir, Virginia 22060-6221.

FOR FURTHER INFORMATION CONTACT: Ms. Donna Coward, Workforce Effectiveness and Development Group, Human Resources, Defense Logistics Agency, Department of Defense, (703) 767-6427.

SUPPLEMENTARY INFORMATION: In accordance with 5 U.S.C. 4314(c)(4), the following are the names and titles of DLA career executives appointed to serve as a members of the SES PRB. Members will serve a 2-year term, effective July 1, 2000.

PRB Chair: Mr. Gary Thurber, Executive Director,

Members: Mr. Frank Lotts, Deputy Director, Logistics Operations, Ms. Phyllis Campbell, Deputy Commander, Defense Distribution Center, Dr. Linda Furiga, Comptroller.

Gary S. Thurber,
Executive Director, Defense Logistics Agency.

[FR Doc. 00-17853 Filed 7-13-00; 8:45 am]

BILLING CODE 3620-01-M